FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—06/30/2008
20081345 | Finisar Corporation | Optium Corporation | Optium Corporation.
20081357 | Great Hill Equity Partners III, L.P | CAM Commerce Solutions, Inc | CAM Commerce Solutions, Inc
20081359 | Intercontinental Exchange, Inc | Creditex Group Inc | Creditex Group Inc.
20081360 | DG FastChannel, Inc | Enliven Marketing Technologies Corporation | Enliven Marketing Technologies Corporation.
20081364 | OCMIGFI Power Opportunities Fund II, L.P | John R Norton | Snelson Companies, Inc.
20081365 | Belden, Inc | Trapeze Networks, Inc | Trapeze Networks, Inc.
20081367 | Battery Ventures VI, L.P | Finisar Corporation | Finisar Corporation.
20081369 | SAP AG | Visiprise, Inc | Visiprise, Inc.
20081373 | Diamond Castle Wind Partners IV, L.P | Point Partners VI, L.P | Labelcorp Holdings, Inc.
20081374 | Sopra Group | Tumbleweed Communications Corp | Tumbleweed Communications Corp.
20081377 | O. Bruton Smith | Kentucky Speedway, LLC | Kentucky Speedway, LLC.
20081383 | The Procter & Gamble Company | MDVIP, Inc | MDVIP, Inc.
20081386 | Oracle Corporation | Craig Hall | Skywire Software, LLC.
20081388 | Richard T. Fields | Trump Entertainment Resorts, Inc | Trump Marina Associates, LLC.
TRANSACTIONS GRANTED EARLY TERMINATION—07/01/2008
20080124 | Carlyle Partners IV, L.P | James Ratcliffe | Newco LLC.
20080125 | James Ratcliffe | Carlyle Partners IV, L.P | PQ Corporation.
20081371 | Ares Corporate Opportunities Fund II, L.P | Global BPO Services Corp | Global BPO Services Corp.
20081387 | Willis Group Holdings Limited | Hilb Rogal & Hobbs Company | Hilb Rogal & Hobbs Company.
TRANSACTIONS GRANTED EARLY TERMINATION—07/02/2008
20081136 | BHP Billiton Limited | Rio Tinto plc | Rio Tinto plc.
20081137 | BHP Billiton Limited | Rio Tinto Limited | Rio Tinto Limited.
20081302 | GrainCorp Limited | Ridley Corporation Limited | Ridley Corporation Limited.
20081309 | NBTY, Inc | LHP Holding Corp., Leiner Health Products LLC | Leiner Health Products Inc., Leiner Health Service Corp.
20081331 | Stanley, Inc | Oberon Associates, Inc | Oberon Associates, Inc.
20081385 | William H. Gates, III | Patriot Coal Corporation | Patriot Coal Corporation.
TRANSACTIONS GRANTED EARLY TERMINATION—07/03/2008
20081338 | Obrem (QP), L.P | MDS Inc | MDS Inc.
TRANSACTIONS GRANTED EARLY TERMINATION—07/07/2008
20081337 | Obrem Capital Offshore Master, L.P | MDS Inc | MDS Inc.
20081393 | Providence Equity Partners VI L.P | HireRight, Inc | HireRight, Inc.
20081396 | The Resolute Fund II, L.P | Robert J. Guidry Family Limited Partnership | Harvey Explorer 242 LLC, Harvey Intruder LLC, Harvey Provider 240 LLC, Harvey Spirit LLC.
20081397 | The Resolute Fund II, L.P | Dick J. Guidry | Harvey Explorer 242 LLC, Harvey Intruder LLC, Harvey Provider 240 LLC, Harvey Spirit LLC.
20081399 | Farallon Capital Partners, L.P | CapitalSource Inc | CapitalSource Inc.
20081401 | Farallon Capital Institutional Partners, L.P | CapitalSource Inc | CapitalSource Inc.
20081402 | Farallon Capital Offshore Investors, Inc | CapitalSource Inc | CapitalSource Inc.
20081408 | Penn Virginia Resource Partners, L.P | LONESTAR Midstream Partners, L.P | Lone Star Gathering, L.P.
20081418 | XTO Energy Inc | Estate of Haroldson L. Hunt, Jr., Deceased | Hassie Hunt Exploration Company.
20081419 | XTO Energy Inc | Margaret Hunt Trust Estate | HPC Holdco Corporation.
20081424 | Targa Resources Investments, Inc | Chevron Corporation | Venice Energy Services Company, L.L.C.
20081425 | Quandrangle Capital Partners II L.P | Greenfield Online, Inc | Greenfield Online, Inc.
TRANSACTIONS GRANTED EARLY TERMINATION—07/08/2008
20081389 | Trident IV, L.P | Insurance Solutions Holdings, Inc | Insurance Solutions Holdings, Inc.
20081394 | Sageview Capital Master, L.P | Bristow Group Inc | Bristow Group Inc.
20081414 | J.C. Flowers II Fund L.P | MF Global Ltd | MF Global Ltd.
20081417 | Blackstone Capital Partners V, L.P | Apria Healthcare Group Inc | Apria Healthcare Group Inc.
TRANSACTIONS GRANTED EARLY TERMINATION—07/09/2008
20081429 | Carlyle Europe Partners III, L.P | De La Rue plc | De La Rue U.S. Cash Systems Inc., De La Rue U.S. Inc.
20081435 | Macquarie Advanced Investment Partners, L.P | Macquarie Capital Alliance Trust | Macquarie Capital Alliance Trust.
TRANSACTIONS GRANTED EARLY TERMINATION—07/10/2008
20080395 | Flow International Corporation | OMAX Corporation | OMAX Corporation.
20081343 | B/E Aerospace, Inc | Honeywell International Inc | Honeywell Consumables Solutions GmbH, Honeywell Consumables, Solutions S.A.S., Honeywell International Inc., Honeywell UK Limited.
20081441 | Wistron Corporation | Lite-On Technology Corporation | Lite-On Computer Tech. (Donogguan) Ltd., Lite-On Digital Electronics (Donogguan) Co. Ltd., Lite-On S&D Inc., Lite-On Service USA, Inc., Life-On Trading USA, Inc., Titanic Capital Service Ltd., Wuxi China Bridge Express Trading Co., Ltd.
TRANSACTIONS GRANTED EARLY TERMINATION—07/14/2008
20081400 | Express Scripts, Inc | Monitor Clipper Equity Partners II, L.P | MSC—Medical Services Company.
20081431 | Marc A. Utay | Lance T. Funston | Admax Television, Inc., Cable Connect Incorporated, Newco LLC, TelAmerica LLC, TelAmerica Media Incorporated.
20081440 | COFCO Limited | Smithfield Foods, Inc | Smithfield Foods, Inc.
20081442 | RC2 Corporation | Louis Weber | PIL, L.L.C., Publications International Limited Partnership, Publications International Ltd., Publications International, Ltd, L.P., Publications International, Ltd. S de R.L. de C.V.
20081444 | Bradco Acquisition Corp | Bradco Supply Corporation | Bradco Supply Corporation.
20081461 | Sonic Healthcare Limited | Moon S. Park, M.D | Clinical Laboratories of Hawaii, LLP, Pan Pacific Pathologists, Inc.
TRANSACTIONS GRANTED EARLY TERMINATION—07/15/2008
20081378 | The J.M. Smucker Company | The Folgers Coffee Company | The Folgers Coffee Company.
20081395 | The Resolute Fund II, L.P | Robert J. Guidry | Harvey Gulf International Marine, Incorporated.
20081460 | Mr. G. Mallikarjuna Rao | InterGen N.V | InterGen N.V.
TRANSACTIONS GRANTED EARLY TERMINATION—07/16/2008
20081191 | Highmark Inc | Independence Blue Cross | Independence Blue Cross.
20081192 | Independence Blue Cross | Highmark Inc | Highmark Inc.
20081358 | Robert Bosch Industrietreuhand KG | The Stanley Works | The Stanley Works.
TRANSACTIONS GRANTED EARLY TERMINATION—07/18/2008
20081462 | CHS Private Equity V L.P | Richard E. Workman | Heartland Dental Care, Inc.
20081474 | Pfingsten Executive QP Fund III, L.P | Holiday Properties Acquisition Corp | Holiday Properties Acquisition Corp.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. E8-17416 Filed 7-30-08; 8:45 am]

BILLING CODE 6750-01-M